DEPARTMENT OF COMMERCE

Foreign-Trade Zones Board

[B-17-2015]

Foreign-Trade Zone (FTZ) 127—West Columbia, South Carolina; Authorization of Production Activity; Isola USA Corporation; (Dielectric Prepreg and Copper-Clad Laminate); Ridgeway, South Carolina

On March 17, 2015, the Richland-Lexington Airport District, Columbia Metropolitan Airport, grantee of FTZ 127, submitted a notification of proposed production activity to the Foreign-Trade Zones (FTZ) Board on behalf of Isola USA Corporation, located within Site 4 of FTZ 127, in Ridgeway, South Carolina.

The notification was processed in accordance with the regulations of the FTZ Board (15 CFR part 400), including notice in the Federal Register inviting public comment (80 FR 18196, 04-03-2015). The FTZ Board has determined that no further review of the activity is warranted at this time. The production activity described in the notification is authorized, subject to the FTZ Act and the Board's regulations, including Section 400.14.

Dated: July 15, 2015.
Andrew McGilvray,
Executive Secretary.

[FR Doc. 2015-17855 Filed 7-20-15; 8:45 am]

BILLING CODE 3510-DS-P